GENERAL SERVICES ADMINISTRATION

Submission for Public Comments: General Services Administration (GSA); Household Goods Tender of Service (HTOS); Conversion of Flat Industrial Funding Fee (IFF) to a Percentage IFF

AGENCY: Federal Supply Service, GSA.

ACTION: Notice of HTOS amendment with request for comments.

SUMMARY: The General Services Administration (GSA), in compliance with 41 U.S.C. 418b, is publishing for comment in the attachment to this notice HTOS revisions to convert the Centralized Household Goods Traffic Management Program (CHAMP) IFF from a $145 flat fee to a comparable fee of 2.75 percent of a shipment's total net transportation charge (excluding storage in transit (SIT) fees). This change conforms with the percentage method GSA uses to fund its other programs, including its multiple award schedules, and automatically will keep program funding at a pace with inflation.

DATES: Comment Due Date: July 22, 2002.

ADDRESSES: Mail comments to the Travel and Transportation Management Division (FBL), General Services Administration, Crystal Mall Bldg. 4, Rm. 812, 1941 Jefferson Davis Highway, Arlington, VA 22202, Attn: Ms. Lynn Ju (Re: Percentage IFF). GSA will consider your comments prior to implementing this change.

FOR FUTHER INFORMATION CONTACT: Ms. Lynn Ju, Transportation Programs Branch, by phone at 703-305-7060 or by e-mail at lynnette.ju@gsa.gov.

SUPPLEMENTARY INFORMATION: The GSA CHAMP provides Federal civilian agencies a framework for efficiently and economically transporting household goods (HHG) of their employees relocated in the interest of the government from one official duty station to another, both domestically and internationally. On average CHAMP saves agencies 52 percent compared to commercial rates. GSA has arrangements with over 280 carriers, both large and small, for shipping Federal employees' HHG. GSA provides a listing of available carriers for interstate, intrastate, or international shipments including American offshore moves. Agencies have access to this information through GSA's web-based Interagency Transportation Management System (ITMS).

GSA proposes to convert the current CHAMP IFF from a $145 flat fee per shipment to 2.75 percent of the net transportation charge per shipment excluding SIT fees. This is a procedural change only for the purpose of converting the flat fee to a percentage fee that equates to approximately the same amount as the current flat fee without increasing the overall cost to Federal agencies. Use of a percentage fee is the fundamental way GSA's Federal Supply Service (FSS) has assessed IFF's for essentially all of its programs since Congress authorized GSA to charge fees in 1987. This change will align the HHG IFF with GSA's funding mechanism for other programs and automatically will keep pace with inflation. The collection method will remain the same; that is, transportation service providers will continue to collect and pay the IFF to GSA, but based on 2.75 percent of a shipment's net transportation charge instead of a flat fee.

Representatives of GSA's Transportation Zone Offices studied converting the flat fee to a percentage basis to arrive at a percentage that equates to approximately the same overall cost for Federal agencies as the current flat fee. The American Moving and Storage Association furnished the Federal civilian sector's average shipment weight of 8,000 pounds and average distance of 1,000 miles for a domestic HHG shipment based on a sample of its records. The gross line-haul cost for a shipment of this size would be $7,681, and the average max pack would be $3,676.50. The top 16 CHAMP transportation service providers represent 81 percent of the volume of CHAMP moves, and last year their average discount was 52 percent. Using these figures the net cost of an average shipment would be $5,292. The IFF for an average shipment costing $5,292 at 2.75 percent would be $145.53. GSA does not have statistical data for accessorial items such as, bulky items, long carries, shuttles, crating, etc. Therefore, the percentage is hypothetical based on the best information available, and could be somewhat higher or lower than the current IFF depending on the actual characteristics of a particular move. The IFF would be more for heavier shipments and less for lighter shipments, but the IFF still will be embedded in carriers' rates and should balance out without any cost increase to Federal agencies or carriers overall, in using CHAMP.

Dated: June 17, 2002.
Joseph H. Jeu,
Assistant Commissioner, Office of Transportation and Property Management.

Attachment—Changes to Household Goods Tender of Service, Section 9—Reporting Requirements

9-3.1.4. Industrial Funding Fee

The Industrial Funding Fee (IFF) amount must equal the sum of all shipment net charges reported in HTOS Paragraph 9-3.1.2, multiplied by the applicable IFF percentage identified in the Request for Offers. Any deficiencies identified will be handled in accordance with HTOS Paragraph 9-3.1.4.1. and 9-3.1.4.2.

9-3.2.2.2. Shipment Report Spreadsheet Format

Entry format is text entry (i.e. left aligned). Fields marked with an asterisk (*) are numeric and must, if necessary, be zero filled from the left (i.e., 00250 for 250) depending on the field size. Save the file as a comma-separated file (.CSV) then rename as necessary (.SHP or .ERS).

Field | Required position(s) | Record position(s) | Contents
Record ID | 1 | 1 | Must be S.
Field Delimiter | 1 | 2 | Comma.
SCAC | 4 | 3-6 | Four (4) digit Standard Carrier Alpha Code (SCAC) identifying the carrier the GBL/CBL was issued to.
Field Delimiter | 1 | 7 | Comma.
Type of Transportation | 2 | 8-9 | Enter GD for General Domestic, GI for General International, DD for Direct Domestic Move Management (MMS), DI for Direct International MMS, BD for Broker Domestic MMS, or BI for Broker International MMS.
Field Delimiter | 1 | 10 | Comma.
Type of Move | 3 | 11-13 | If the GBL/CBL was used for household goods, put in HHG; for Automobile, put in POV; for Unaccompanied Air Baggage, put in UAB. **If multiple elements were moved using one GBL/CBL, each element must have an individual shipment record.
Field Delimiter | 1 | 14 | Comma.
Federal Agency Identification Code | 9 | 15-23 | Agency's 9 digit User ID code used to access ITMS. This User ID can be obtained directly from the user agency or from the ITMS system itself. If unable to obtain the proper User ID, please contact the PMO. Records with this field blank. X or zero-filled will not be accepted.
Field Delimiter | 1 | 24 | Comma.
Carrier Reference Number | 15 | 25-39 | Carrier reference number used when the shipment was booked by the carrier. Start the reference number with position 25. If reference number does not consist of 15 numbers, place X's after number to fill out the 15 positions. Example: Reference number 135895 would appear as 135895XXXXXXXXX. Records with this field blank, X or zero filled will not be accepted.
Field Delimiter | 1 | 40 | Comma.
Billing Date | 8 | 41-48 | Date of Agency Billing (YYYYMMDD) (Example: 20020215 = February 15, 2002).
Field Delimiter | 1 | 49 | Comma.
BL Number | 8 | 50-57 | Bill of Lading Number. Use GBL/CBL number associated with the shipment. If CBL number is less then 8 characters, place X's after the number to fill in field. Records with this field blank or zero filled will not be accepted.
Field Delimiter | 1 | 58 | Comma.
Type of GBL/CBL | 1 | 59 | Input V if Virtual GBL/CBL was used. Input G if standard GBL/CBL was used.
Field Delimiter | 1 | 60 | Comma.
Pickup Date | 8 | 61-68 | YYYYMMDD (see Billing Date).
Field Delimiter | 1 | 69 | Comma.
Delivery Date | 8 | 70-77 | YYYYMMDD (see Billing Date).
Field Delimiter | 1 | 78 | Comma.
*Transit Time | 3 | 79-81 | Actual Transit Time in days. Example: 007 = 7 days.
Field Delimiter | 1 | 82 | Comma.
Origin State or Country Code | 4 | 83-86 | Four digit state or country identifier. State is the two digit state identifier, all CAPS, plus two (2) zeros (0). Example: FL00. Country code is the four-digit country code as listed in the most current Request for Offers. Example: Germany = 3940. Records with this field blank, X or zero filled will not be accepted.
Field Delimiter | 1 | 87 | Comma.
Origin Zip Code | 5 | 88-92 | 5-digit zip (X Fill for Canada or International Shipments).
Field Delimiter | 1 | 93 | Comma.
Destination State or Country Code | 4 | 94-97 | See Origin State above. Records with this field blank, X or zero filled will not be accepted.
Field Delimiter | 1 | 98 | Comma.
Destination Zip Code | 5 | 99-103 | 5-digit zip (X Fill for Canada or International Shipments).
Field Delimiter | 1 | 104 | Comma.
*Actual Weight Shipped | 5 | 105-109 | In pounds for HHG or UAB. Example: 09800 = 9800 pounds. If the record is for POV, place five (5) zeros, 00000 **If field is zero filled for POV, positions 11-13 must state POV.
Field Delimiter | 1 | 110 | Comma.
*Mileage | 4 | 111-114 | Whole miles only. Example: 0750 = 750 miles. This field should be zero filled for International moves.
Field Delimiter | 1 | 115 | Comma.
* Discount Offered | 3 | 116-118 | Domestic: Discount off the current 415 tariff; International: Percentage of the base line rate tables contained in the Request for Offers.
Field Delimiter | 1 | 119 | Comma.
*Gross Charges | 5 | 120-124 | Exclusive of SIT charges, in whole dollars only.
Field Delimiter | 1 | 125 | Comma.
*Net Charges | 5 | 126-130 | Exclusive of SIT charges, in whole dollars only. Example: 07600 = $7,600.00.
Field Delimiter | 1 | 131 | Comma.
Employee's Last Name | 15 | 132-146 | Last name of the employee listed on the GBL/CBL in all CAPS. If the employee's name does not consist of 15 letters, place X's after the name to fill out the 15 positions. Example: The name of Jones would appear as JONESXXXXXXXXXX. Records with this field blank, X or zero filled will not be accepted.
Field Delimiter | 1 | 147 | Comma.
Participants Tax ID Number | 9 | 148-156 | Participant TIN.

Examples:

(1) Domestic:

A | B | C | D | E | F | G | H | I | J | K | L
S | GSAA | GD | HHG | RXPGITY43 | Q794912349XXXXX | 19990612 | S12345XX | V | 19990105 | 19990312 | 007

M | N | O | P | Q | R | S | T | U | V | W
MO00 | 64131 | OK00 | 7122 | 10030 | 0400 | 056 | 12500 | 05500 | SMITH-BATTSONXX | 103777444

(2) International:

A | B | C | D | E | F | G | H | I | J | K | L
S | GSAA | GI | POV | RXPG8TY43 | Q794-P912666XXX | 19991012 | PP123456 | G | 19990601 | 19990724 | 053

M | N | O | P | Q | R | S | T | U | V | W
MO00 | 64131 | 490J | XXXXX | 00000 | 0000 | 165 | 15500 | 15500 | SMITH-BATTSONXX | 103777444

[FR Doc. 02-15736 Filed 6-20-02; 8:45 am]

BILLING CODE 6820-24-P